DEPARTMENT OF THE INTERIOR

Fish and Wildlife Service

[FWS-R8-ES-2017-0034; FF08ESMF00-FXES11140800000-178]

Lost Hills Solar Project, Kern County, California; Draft Environmental Assessment and Draft Habitat Conservation Plan

AGENCY: Fish and Wildlife Service, Interior.

ACTION: Notice of availability; request for comment.

SUMMARY: We, the U.S. Fish and Wildlife Service, announce the availability of a draft environmental assessment (draft EA) under the National Environmental Policy Act of 1969, as amended. We also announce receipt of an application for an incidental take permit under the Endangered Species Act of 1973, as amended, and receipt of a draft habitat conservation plan (draft HCP). CED Lost Hills Solar, LLC has applied for an incidental take permit under the Endangered Species Act for the Lost Hills Solar Project in Kern County, California. The permit would authorize the take of the federally endangered San Joaquin kit fox incidental to the construction, operation and maintenance, and decommissioning of the solar project. Application for the permit requires the preparation of an HCP with measures to avoid, minimize, and mitigate the impacts of incidental take to the maximum extent practicable. The purpose of the EA is to assess the effects of issuing the permit and implementing the draft HCP on the natural and human environment.

DATES: To ensure consideration, written comments must be received by September 1, 2017.

ADDRESSES: Document Availability: The draft HCP and draft EA are available via the internet at the Federal eRulemaking Portal (www.regulations.gov) in Docket No. FWS-R8-ES-2017-0034. Alternatively, you may obtain electronic copies of the draft HCP and draft EA from the Sacramento Fish and Wildlife Office Web site at http://www.fws.gov/sacramento. Copies of these documents are also available for public inspection, by appointment, during regular business hours, at the Sacramento Fish and Wildlife Office, 2800 Cottage Way, W-2605, Sacramento, CA 95825; 916-414-6600 (telephone).

Submitting Comments: To send written comments, please use one of the following methods, and note that your information requests or comments are in reference to the draft HCP. Please specify whether your comment addresses the draft EA, draft HCP, or both.

• Internet: Submit comments at http://www.regulations.gov under Docket No. FWS-R8-ES-2017-0034.

• U.S. Mail or Hand-Delivery: Public Comments Processing, Attn: FWS-R4-ES-2017-0034, U.S. Fish and Wildlife Service, MS: BPHC, 5275 Leesburg Pike, Falls Church, VA 22041-3803.

FOR FURTHER INFORMATION CONTACT: Justin Sloan, Senior Wildlife Biologist, San Joaquin Valley Division; or Patricia Cole, Chief, San Joaquin Valley Division, at the Sacramento Fish and Wildlife Office address (see Document Availability in ADDRESSES) or at 916-414-6600 (telephone). If you use a telecommunications device for the deaf, please call the Federal Relay Service at (800) 877-8339.

SUPPLEMENTARY INFORMATION: We, the U.S. Fish and Wildlife Service (Service), announce the availability of a draft environmental assessment (EA), prepared pursuant to the National Environmental Policy Act of 1969, as amended (42 U.S.C. 4321 et seq.; NEPA), and its implementing regulations in the Code of Federal Regulations (CFR) at 40 CFR 1506.6. This notice also announces the receipt of an application from CED Lost Hills Solar, LLC (applicant), for a 45-year incidental take permit (ITP) under the Endangered Species Act of 1973, as amended (16 U.S.C. 1531 et seq.; Act). The applicant prepared the draft Lost Hills Solar Project Habitat Conservation Plan (draft HCP) pursuant to section 10(a)(1)(B) of the Act. The applicant is requesting the authorization of incidental take for one covered species that could result from activities covered under the draft HCP.

Background Information

Section 9 of the Act (16 U.S.C. 1531-1544 et seq.) and Federal regulations (50 CFR 17) prohibit the taking of fish and wildlife species listed as endangered or threatened under section 4 of the Act. Regulations governing permits for endangered and threatened species are at 50 CFR 17.22 and 17.32. For more about the Federal habitat conservation plan (HCP) program, go to http://www.fws.gov/endangered/esa-library/pdf/hcp.pdf.

National Environmental Policy Act Compliance

The proposed permit issuance triggers the need for compliance with NEPA. The draft EA was prepared to analyze the impacts of issuing an ITP based on the draft HCP and to inform the public of the proposed action, any alternatives, and associated impacts, and to disclose any irreversible commitments of resources.

For the purposes of NEPA, the Proposed Action Alternative presented in the Draft EA is compared to the No-Action Alternative. The No-Action Alternative represents estimated future conditions to which the Proposed Action's estimated future conditions can be compared.

Proposed Action Alternative

The Service would issue an ITP to the applicants for a period of 45 years for certain covered activities (described below). The applicant has requested an ITP for one covered species (described below), currently listed as endangered under the Act.

Habitat Conservation Plan Area

The geographic scope of the draft HCP encompasses 540 acres, including a 477-acre parcel, along with a 500-foot buffer around the northern part of the parcel within which monitoring activities would take place. The project will occupy approximately 160 acres of the habitat conservation plan (HCP) area, with 133 acres disturbed during project construction.

Covered Activities

The proposed section 10 ITP would allow take of one covered species resulting from certain covered activities in the proposed HCP area. The applicant is requesting incidental take authorization for this covered species that could be affected by activities identified in the draft HCP. The draft HCP covers construction, operations and maintenance, and decommissioning of the solar site (collectively, covered activities).

Covered Species

The San Joaquin kit fox (Vulpes macrotis mutica) is the species addressed in the draft HCP for which conservation actions will be implemented and for which the applicant is seeking an ITP for a period of 45 years. The San Joaquin kit fox is listed as endangered under the Act.

No-Action Alternative

Under the No-Action Alternative, the Service would not issue an ITP to the applicant, and the draft HCP would not be implemented. Under this alternative, the applicant would not construct the proposed solar project.

Public Comments

We request data, comments, new information, or suggestions from the public, other concerned governmental agencies, the scientific community, Tribes, industry, or any other interested party on this notice, the draft EA, and the draft HCP. We particularly seek comments on the following:

1. Biological information concerning the species;

2. Relevant data concerning the species;

3. Additional information concerning the range, distribution, population size, and population trends of the species;

4. Current or planned activities in the area and their possible impacts on the species;

5. The presence of archeological sites, buildings and structures, historic events, sacred and traditional areas, and other historic preservation concerns, which are required to be considered in project planning by the National Historic Preservation Act; and

6. Any other environmental issues that should be considered with regard to the proposed development and permit action.

Public Availability of Comments

Before including your address, phone number, or other personal identifying information in your comment, you should be aware that your entire comment—including your personal identifying information—might be made publicly available at any time. While you can ask us in your comment to withhold your personal identifying information from public review, we cannot guarantee that we will be able to do so.

Next Steps

Issuance of an incidental take permit is a Federal proposed action subject to compliance with NEPA. We will evaluate the application, associated documents, and any public comments we receive as part of our NEPA compliance process and to determine whether the application meets the requirements of section 10(a) of the Act. If, subsequent to our NEPA compliance process, we determine that those requirements are met, we will issue a permit to the applicant for the incidental take of the covered species.

Authority

We publish this notice under the National Environmental Policy Act of 1969, as amended (42 U.S.C. 4321-4347 et seq.), and its implementing regulations at 40 CFR 1500-1508, as well as in compliance with section 10(c) of the Endangered Species Act (16 U.S.C. 1531-1544 et seq.) and its implementing regulations at 40 CFR 17.22.

Dated: July 26, 2017.
Jennifer Norris,
Field Supervisor, Sacramento Fish and Wildlife Office, U.S. Fish and Wildlife Service, Sacramento, California.

[FR Doc. 2017-16251 Filed 8-1-17; 8:45 am]

BILLING CODE 4333-15-P